ENVIRONMENTAL PROTECTION AGENCY

40 CFR Part 52

[EPA-R03-OAR-2017-0396; FRL-9971-13-Region 3]

Approval and Promulgation of Air Quality Implementation Plans; Maryland; 2011 Base Year Inventory for the 2008 8-Hour Ozone National Ambient Air Quality Standard for the Baltimore, Maryland Nonattainment Area; Withdrawal of Direct Final Rule

AGENCY: Environmental Protection Agency (EPA).

ACTION: Withdrawal of direct final rule.

SUMMARY: Due to adverse comments received, the Environmental Protection Agency (EPA) is withdrawing the October 3, 2017 direct final rule that approved a state implementation plan (SIP) revision submitted by the State of Maryland to add the 2011 base year inventory for the Baltimore, Maryland moderate nonattainment area for the 2008 8-hour ozone national ambient air quality standard (NAAQS) into Maryland's SIP. EPA stated in the direct final rule that if EPA received adverse comments by November 2, 2017, the rule would be withdrawn and not take effect. EPA subsequently received adverse comments. EPA will address the comments received in a subsequent final action based upon the proposed rulemaking action also published on October 3, 2017. EPA will not institute a second comment period on this action.

DATES: The direct final rule published at 82 FR 45997, on October 3, 2017, is withdrawn as of November 22, 2017.

FOR FURTHER INFORMATION CONTACT: Gavin Huang, (215) 814-2042, or by email at huang.gavin@epa.gov.

SUPPLEMENTARY INFORMATION: On December 20, 2016, the State of Maryland submitted the 2011 base year emission inventory through the Maryland Department of the Environment (MDE) to meet the nonattainment requirements for moderate ozone nonattainment areas for the 2008 8-hour ozone NAAQS. In the direct final rule published on October 3, 2017 (82 FR 45997), EPA stated that if EPA received adverse comments by November 2, 2017, the rule would be withdrawn and not take effect. EPA subsequently received adverse comments from anonymous commenters.

Because adverse comments were received, EPA is withdrawing the direct final rule approving the revisions to the Maryland SIP that approves the 2011 base year inventory for the Baltimore, Maryland moderate nonattainment area for the 2008 8-hour ozone NAAQS on October 3, 2017 (82 FR 45997). EPA will respond to the adverse comments in a separate final rulemaking action.

List of Subjects in 40 CFR Part 52

Environmental protection, Air pollution control, Incorporation by reference, Nitrogen dioxide, Ozone, Reporting and recordkeeping requirements, Volatile organic compounds.

Dated: November 9, 2017.
Cosmo Servidio,
Regional Administrator, Region III.

Accordingly, the amendments to 40 CFR part 52 published on October 3, 2017 (82 FR 45997) are withdrawn as of November 22, 2017.

[FR Doc. 2017-25323 Filed 11-21-17; 8:45 am]

BILLING CODE 6560-50-P